DEPARTMENT OF ENERGY

Privacy Act of 1974;

Notice of Amendment to an Existing System of Records

AGENCY: Department of Energy.

ACTION: Notice.

SUMMARY: As required by the Privacy Act of 1974, 5 U.S.C. 552a, and Office of Management and Budget (OMB) Circular A-130, the Department of Energy (DOE) is publishing a notice of a proposed amendment to an existing system of records. DOE proposes to amend DOE-50 “Personnel Assurance Program Records.” The notice proposes to change the name of DOE-50 “Personnel Assurance Program Records” to DOE-50 “Human Reliability Program Records.” The notice also identifies the new authority for collecting and maintaining the information. The categories of records and the categories of individual sections also will be expanded. In addition, this notice identifies the new locations where the records will be maintained and clearly states the purpose for collecting and maintaining the information.

DATES: The proposed amendment to an existing system of records will become effective without further notice on August 23, 2004, unless in advance of that date, DOE receives adverse comments and determines that this amendment should not become effective on that date.

ADDRESSES: Written comments should be directed to the following address: U.S. Department of Energy, Lynn Gebrowsky, Director, Office of Safeguards and Security, SO-10.1, U.S. Department of Energy, 1000 Independence Avenue, SW., Washington, DC 20585.

FOR FURTHER INFORMATION CONTACT: Abel Lopez, Director, Freedom of Information Act and Privacy Act Group, ME-74, U.S. Department of Energy, 1000 Independence Avenue, SW., Washington, DC 20585, (202) 586-5955; Lynn Gebrowsky, Director, Office of Safeguards and Security, SO-10.1, U.S. Department of Energy, 1000 Independence Avenue, SW., Washington, DC 20585, (301) 903-3200; and Isiah Smith, Office of the General Counsel, GC-77, U.S. Department of Energy, 1000 Independence Avenue, SW., Washington, DC 20585, (202) 586-8618.

SUPPLEMENTARY INFORMATION: In 1989, as part of its ongoing efforts to protect national security, DOE published regulations that appear at title 10, Code of Federal Regulations (CFR), part 710 subpart B, “Criteria and Procedures for Establishment of the Personnel Security Assurance Program Determinations of an Individual's Eligibility for Access to a Personnel Security Assurance Program (PSAP) Position.” The PSAP is an access authorization program for individuals who apply for or occupy certain positions critical to the national security. The PSAP requires an initial and annual supervisory review, medical assessment, management evaluation and DOE personnel security review of all applicants and incumbents. Since the PSAP was an element of the access authorization process, the information generated from PSAP will remain in DOE-43 “Personnel Security Files.”

In 1998, DOE published regulations that appear at 10 CFR Part 711 for the “Personnel Assurance Program (PAP).” At that time, DOE also published a new system of records for PAP entitled DOE-50 “Personnel Assurance Program Records.” The PAP is a nuclear explosive safety program for individuals who occupy positions that involve hands-on work with, or access to nuclear explosives. The PAP includes many of the same evaluations as the PSAP to ensure that employees assigned to nuclear explosive duties do not have a mental/personality disorder or physical condition that could result in an accidental or unauthorized detonation of nuclear explosives.

As the PSAP and PAP evolved, significant similarities developed in the objectives, requirements, and administration of the two programs. DOE concluded that the monetary and time requirements of administering two very similar programs could not be justified as consistent with good management practices when compared to the benefits of consolidation.

On January 23, 2004, DOE published a final rule establishing the Human Reliability Program (HRP); the final rule appears at 10 CFR part 712. The final rule establishes a single unified HRP management structure that incorporates all of the important elements of the PSAP and PAP into one comprehensive program. By adopting a uniform set of requirements applicable to both PSAP and PAP employees, DOE has developed a stronger, more efficient, and more effective human reliability program for personnel who occupy these positions.

The January 23, 2004, rule consolidates the PSAP and the PAP into a single program. Today's notice proposes to amend DOE-50 “Personnel Assurance Program Records” by changing the name to DOE-50 Reliability Program Records,” expanding the categories of records and categories of individual sections, identifying the new locations where the records will be maintained, and designating a new system manager. The documents generated by the HRP will be maintained in the DOE-50 “Human Reliability Program Records.”

The information collected and the records maintained in DOE-50 will be used by the Department to ensure that HRP candidates and HRP-certified individuals have met all the requirements for HRP certification. The categories of records are being expanded to include the following: (1) Acknowledgement and Agreement to Participate in the Human Reliability Program (HRP) Form; (2) Authorization and Consent to Release Human Reliability Program (HRP) Records in Connection with HRP Form; (3) Refusal of Consent Form; (4) Human Reliability Program (HRP) Alcohol Testing Form; (5) Human Reliability Program (HRP) Certification Form; (6) random alcohol testing results, (7) drug test results and information related to substance abuse, and (8) results from the Office of Hearings and Appeals relating to a safety certification issue. The drug testing results will be sent to the Medical Review Officer who will report to the HRP management official that the test is negative or a confirmed positive and may provide an assessment related to substance abuse. The information is recorded on the Human Reliability Program (HRP) Certification Form and/or attached to the form.

The information collected will be used for screening, selecting, and continuously evaluating individuals assigned to or being considered for assignment to HRP duties. This continuous evaluation process identifies individuals whose judgment and reliability may be impaired by physical or mental/personality disorders, alcohol abuse, use of illegal drugs or the abuse of legal drugs or other substances, or any condition or circumstance that may be a security or safety concern. The categories of individuals will be expanded to include all individuals who were in the PSAP and now are part of the HRP.

The HRP records will be maintained at the following locations: DOE Headquarters; Chicago Operations Office; Idaho Operations Office; Oak Ridge Operations Office; Richland Operations Office, and Savannah River Operations Office; the Rocky Flats Field Office; Pittsburgh Naval Reactors Office; Schenectady Naval Reactors Office; National Nuclear Security Administration (NNSA) Office of Secure Transportation at Albuquerque; NNSA Amarillo Site Office (Pantex); NNSA Kansas City Site Office; NNSA Livermore Site Office, NNSA Los Alamos Site Office; NNSA Nevada Site Office; NNSA Oakland Site Office; NNSA Sandia Site Office; NNSA Y-12 Site Office; and NNSA Service Center at Albuquerque.

DOE is submitting the report required by OMB Circular A-130 concurrently with the publication of this notice. The text of this notice contains the information required by the Privacy Act, 5 U.S.C. 552a(e)(4).

Issued in Washington, DC on June 29, 2004.
James T. Campbell,
Acting Director, Office of Management, Budget and Evaluation/Acting Chief Financial Officer.

DOE-50

SYSTEM NAME:

Human Reliability Program Records.

SECURITY CLASSIFICATION:

Unclassified.

SYSTEM LOCATION(S):

U.S. Department of Energy, 1000 Independence Avenue, SW., Washington, DC 20585.

U.S. Department of Energy, Chicago Operations Office, 9800 South Cass Avenue, Argonne, IL 60439.

U.S. Department of Energy, Idaho Operations Office, 850 Energy Drive, Idaho Falls, ID 83401.

U.S. Department of Energy, Oak Ridge Operations Office, P.O. Box E, Oak Ridge, TN 37830.

U.S. Department of Energy, Richland Operations Office, P.O. Box 550, Richland, WA 99352.

U.S. Department of Energy, Savannah River Operations Office, P.O. Box A, Aiken, SC 29801.

U.S. Department of Energy, Rock Flats Field Office, P.O. Box 928, Golden, CO 80401.

U.S. Department of Energy, Pittsburgh Naval Reactors Office, P.O. Box 109, Pittsburgh, PA 15122.

U.S. Department of Energy, Schenectady Naval Reactors Office, P.O. Box 1069, Schenectady, NY 12301.

U.S. Department of Energy, NNSA Amarillo Site Office (Pantex) P.O. Box 30030, Amarillo, TX 79120.

U.S. Department of Energy, NNSA Kansas City Site Office, 2000 E 9th Street, Kansas City, MO 64141-3202.

U.S. Department of Energy, NNSA Livermore Site Office, P.O. Box 808, Livermore, CA 94551.

U.S. Department of Energy, NNSA Los Alamos Site Office, 528 35th Street, Los Alamos, NM 89193-8518.

U.S. Department of Energy, NNSA Nevada Site Office, P.O. Box 98518, Las Vegas, NV 89193-8518.

U.S. Department of Energy, NNSA Oakland Site Office, 1301 Clay Street, Oakland, CA 94612-5208.

U.S. Department of Energy, NNSA Office of Secure Transportation, NA-121, P.O. Box 5400, Albuquerque, NM 87185-5400.

U.S. Department of Energy, NNSA Sandia Site Office, P.O. Box 5800, Albuquerque, NM 87115.

U.S. Department of Energy, NNSA Y-12 Site Office, P.O. Box 2050, Oak Ridge, TN 37831-8009.

U.S. Department of Energy, NNSA Service Center Albuquerque, P.O. Box 5400, Albuquerque, NM 87115-5400.

CATEGORIES OF INDIVIDUALS COVERED BY THE SYSTEM:

Department of Energy, including National Nuclear Security Administration, and contractor employees performing work that affords both technical knowledge and access to assembled nuclear explosives or certain nuclear weapon components and assigned to, or applying for a position that: (1) Affords access to Category I Special Nuclear Material (SNM) or has responsibility for transportation or protection of Category I quantities of SNM; (2) involves nuclear explosive duties or has responsibility for working with, protecting, or transporting nuclear explosives, nuclear devices, or selected components; (3) affords access to information concerning vulnerabilities in protective systems when transporting nuclear explosives, nuclear devices, selected components, or Category I quantities of SNM; or (4) affords the potential to significantly impact national security or cause unacceptable damage and has been approved as an HRP position.

CATEGORIES OF RECORDS IN THE SYSTEM:

Results of medical examination; employment review; credit/consumer reports; data pertaining to access authorizations (clearances); training records pertaining to individual's duties involving assembled nuclear explosives or certain nuclear weapon components; employee name; department division; job title; L-code (mail code); telephone number; pager number; employee number; and social security number; Acknowledgement and Agreement to Participate in the Human Reliability Program (HRP) Form; Authorization and Consent to Release Human Reliability Program (HRP) Records in Connection with HRP Form; Refusal of Consent Form; Human Reliability Program (HRP) Alcohol Testing Form; Human Reliability Program (HRP) Certification Form; random alcohol testing results; drug test results and information related to substance abuse; results from the Office of Hearings and Appeals relating to a safety certification issue; psychological evaluations; and polygraph results.

AUTHORITY FOR MAINTENANCE OF THE SYSTEM:

41 U.S.C. 2165; 42 U.S.C. 2201; 42 U.S.C. 5814-5815; 42 U.S.C. 7101 et seq.; 50 U.S.C. 2401 et seq.; E.O. 10450, 3 CFR 1949-1953 as amended; E.O. 10865, 3 CFR 1959-1963, as amended; and 10 CFR 712, Personnel Assurance Program.

PURPOSE(S):

The records are maintained and used by the Department to ensure that individuals assigned to nuclear explosive duties do not have emotional, mental, or physical incapacities that could result in a threat to nuclear explosive safety. This is done through a continuous evaluation process that identifies individuals whose judgment or reliability may be impaired by physical or mental/personality disorders, alcohol abuse, use of illegal drugs or the abuse of legal drugs or other substances, or any condition or circumstance that may be a security or safety concern.

ROUTINE USES OF RECORDS MAINTAINED IN THE SYSTEM, INCLUDING CATEGORIES OF USERS AND THE PURPOSES OF SUCH USES:

1. A record from this system may be disclosed as a routine use for the purpose of an investigation, settlement of claims, or the preparation and conduct of litigation to a (1) person representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

2. A record from this system may be disclosed as a routine use in court or administrative proceedings to the tribunals, counsel, other parties, witnesses, and the public (in publicly available pleadings, filings or discussion in open court) when such disclosure: (1) Is relevant to, and necessary for, the proceeding; and (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who are acting in an official capacity, or in any individual capacity where the Department or other United States Government agency has agreed to represent the employee.

3. A record from this system of records may be disclosed to a Federal agency, in response to its written request, to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

4. A record from the system may be disclosed as a routine use to the appropriate local, State or Federal agency when records alone or in conjunction with other information, indicate a violation or potential violation of law whether civil, criminal, or regulatory in nature, and whether arising by general statute or particular program pursuant thereto.

5. A record from this system of records may be disclosed to a member of Congress submitting a request involving the constituent when the constituent has requested assistance from the member with respect to the subject matter of the record. The member of Congress must provide a copy of the constituent's request for assistance.

6. A record from the system may be disclosed as a routine use to DOE contractors in performance of their contracts, and their officers and employees who have a need for the record in the performance of their duties. Those provided information under this routine use are subject to the same limitations applicable to Department officers and employees under the Privacy Act.

POLICIES AND PRACTICES FOR STORING, RETRIEVING, ACCESSING, RETAINING, AND DISPOSING OF RECORDS IN THE SYSTEM:

STORAGE:

Records may be stored as paper files and electronic media.

RETRIEVABILITY:

Records may be retrieved by name, social security number and employee number.

SAFEGUARDS:

Paper records are maintained in locked cabinets and desks. Electronic records are controlled through established DOE computer center procedures (personnel screening and physical security), and they are password protected. Access is limited to those whose official duties require access to the records.

RETENTION AND DISPOSAL:

Records retention and disposal authorities are contained in the National Archives and Records Administration (NARA) General Records Schedule and DOE record schedules that have been approved by NARA.

SYSTEM MANAGER(S) AND ADDRESS:

Director of Security, U.S. Department of Energy, 1000 Independence Avenue, SW., Washington, DC 20585.

Field Offices: The HRP certifying official, or his or her designee of the “System Locations” listed above are the system managers for their respective portions of this system.

NOTIFICATION PROCEDURES:

In accordance with the DOE regulation implementing the Privacy Act, at 10 CFR part 1008, a request by an individual to determine if a system of records contains information about him/her should be directed to the Director, Headquarters Freedom of Information Act and Privacy Act Group, U.S. Department of Energy, or the Privacy Act Officer at the appropriate address identified above under “System Locations.” For records maintained by Laboratory, Area Office or Site Offices, the request should be directed to the Privacy Act Officer at the Operations Office, Field Office or Service Center that has jurisdiction over that office or facility. The request should include the requester's complete name, time period for which records are sought, and the office locations(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

The individual, medical records, occupational training records, and HRP program and personnel security records. Information also may be obtained from the supervisor, site occupational medical director, and the management official when completing the Human Reliability Program Certification.

SYSTEM EXEMPTED FROM CERTAIN PROVISIONS OF THE ACT:

None.

[FR Doc. 04-15331 Filed 7-6-04; 8:45 am]

BILLING CODE 6450-01-P